DEPARTMENT OF THE INTERIOR

National Park Service

Notice of Meeting of Concessions Management Advisory Board

AGENCY: National Park Service, Interior.

SUMMARY: In accordance with the Federal Advisory Committee Act (Public Law 92-463, 86 Stat. 770, 5 U.S.C. App 1, section 10), notice is hereby given that the Concessions Management Advisory Board will hold its fifth meeting May 30 and 31, 2001, in the Grand Canyon National Park, Arizona. The meeting will be held at the Shrine of Ages on the South Rim of the Grand Canyon National Park. The meeting will convene at 9 a.m. on May 30th in the auditorium at the Shrine of Ages. The meeting will conclude on Thursday afternoon, May 31.

SUPPLEMENTARY INFORMATION: The Advisory Board was established by Title IV, Section 409 of the National Park Omnibus Management Act of 1998, November 13, 1998 (Public Law 105-391). The purpose of the Board is to advise the Secretary and the National Park Service on matters relating to management of concessions in the National Park System.

The agenda includes the following subjects:

• Discussion and evaluation of the handcraft issue and visits to various retail outlets.

• Review and discussion of Concession Program Business Plan prepared by Price Waterhouse Coopers.

• Discussion of recent Congressional oversight hearings.

The Board will also discuss its organizational and administrative needs.

The meeting will be open to the public, however, facilities and space for accommodating members of the public are limited, and persons will be accommodated on a first-come-first served basis.

Assistance to Individuals With Disabilities at the Public Meeting

The meeting site is accessible to individuals with disabilities. If you plan to attend and will need an auxiliary aid or service to participate in the meeting (e.g., interpreting service, assistive listening device, or materials in an alternate format), notify the contact person listed in this notice at least two weeks (2 weeks) before the scheduled meeting date. Attempts will be made to meet any request(s) we receive after that date, however, we may not be able to make the requested auxiliary aid or service available because of insufficient time to arrange for its.

Anyone may file with the Board a written statement concerning matters to be discussed. The Board may also permit attendees to address the Board, but may restrict the length of the presentations, as necessary to allow the Board to complete its agenda within the allotted time.

Interested persons may make oral/written presentations to the Advisory Board during the business meeting or file written statements. Such requests should be made to the Director, National Park Service, attention: Manager, Concession Program at least 7 days prior to the meeting. Further information concerning the meeting may be obtained from National Park Service, Concession Program Division, 1849 C St., NW., Rm. 7313, Washington, DC 20240, Telephone 202/565-1210.

Draft minutes of the meeting will be available for public inspection approximately 4 weeks after the meeting, in room 7313, Main Interior Building, 1849 C Street, NW., Washington, DC.

Dated: May 3, 2001.
Denis P. Galvin,
Acting Director, National Park Service.

[FR Doc. 01-12680 Filed 5-18-01; 8:45 am]

BILLING CODE 4310-70-M